FEDERAL COMMUNICATIONS COMMISSION

[DA 04-290]

Wireless Telecommunications Bureau Announces Disposition of Call Signs Which Were Undeliverable in the Private Land Mobile Radio Station Construction and Operational Status Audit

AGENCY: Federal Communications Commission.

ACTION: Notice.

SUMMARY: This document announces its handling of call signs with outstanding audit responses for which Private Land Mobile (PLMR) Spectrum Audit letters have been returned to the Commission as undeliverable. As part of the final phase of the PLMR Spectrum Audit, undeliverable call signs which remain without a response 30 days after publication of this list in the Federal Register will be deemed to have cancelled automatically.

DATES: Effective March 25, 2004.

ADDRESSES: All responses should be mailed to FCC, PLMR Spectrum Audit Responses, 1270 Fairfield Road, Gettysburg, PA 17325, or faxed to (717) 338-2696.

FOR FURTHER INFORMATION CONTACT: Kelly Lawver, Public Safety & Critical Infrastructure Division, Wireless Telecommunications Bureau, (717) 338-2605.

SUPPLEMENTARY INFORMATION: 1. The Bureau has been conducting an audit of the construction and operational status of certain Private Land Mobile Radio (PLMR) stations. The audit includes most PLMR Stations (radio services IG, YG, PW, YW) licensed on frequencies below 512 MHz that are subject to frequency coordination and rule-based construction and operational requirements. The Federal Communications Commission's (FCC) part 90 rules for the PLMR facilities require construction within a specified time and require that stations remain operational in order for the FCC license to remain valid. Specifically, when a license fails to construct its authorized PLMR facilities within the requisite construction period or discontinues operation for a period of one year, the license cancels automatically and the licensee is required to notify the FCC.

2. The Bureau initially sent audit letters to licensees over a six month period from August 2001, to January 2002. More than 267,000 letters involving approximately 420,000 call signs were sent. The initial mailing generated a 73 percent response rate. In order to generate a higher response rate, the Bureau updated addresses and sent a second letter in April and May of 2002. As a result of this mailing, the response rate increased to 88 percent. To date, letters for approximately 2,300 call signs with outstanding audit responses have been returned to the FCC as undeliverable. The attachment lists the call signs with outstanding audit responses.

3. Tools are available on the FCC's audit web page at http://wireless.fcc.gov/licensing/audits/plmrs/index.html to assist licensees and industry in determining which call signs are undeliverable and do not have a response. Information regarding particular call signs may be obtained by querying the audit database under “Audit Search”. Listings of call signs for which the Commission has no record of a response are available under “Database Downloads”. These files are separated by radio service and state/territory. In addition if a licensee determines that it needs to respond to the audit, a response form may be downloaded from this page. The completed form should be faxed to (717) 338-2696 or mailed to FCC, PLMR Spectrum Audit Responses, 1270 Fairfield Road, Gettysburg, PA 17325.

4. Licensees will have until March 25, 2004, to provide a response for the attached call signs. The FCC will presume from a failure to provide a response that the licensee has either failed to construct its stations within the requisite time period or has discontinued operation of its station for a period of one year. Consequently, if a licensee does not provide a response by March 25, 2004, the stations will be deemed to have cancelled automatically. The FCC's licensing database will be updated to reflect that licenses are no longer valid and the frequencies will be made available for relicensing.

5. For additional information about the Private Land Mobile Radio construction audit, please call 1-888-225-5322 and select option 2 or visit the WTB Web site at http://wireless.fcc.gov/licensing/audits/plmrs/index.html.

Federal Communications Commission.
D'wana R. Terry,
Chief, Public Safety and Critical Infrastructure Division, WTB.

BILLING CODE 6712-01-P

[FR Doc. 04-3972 Filed 2-23-04; 8:45 am]

BILLING CODE 6712-01-C